ENVIRONMENTAL PROTECTION AGENCY

[10021-48-OLEM]

FY2021 Supplemental Funding for Brownfields Revolving Loan Fund (RLF) Cooperative Agreement Recipients (CARs)

AGENCY: Environmental Protection Agency (EPA).

ACTION: Notice of the availability of funds.

SUMMARY: The Environmental Protection Agency (EPA) plans to make available approximately $10 million to provide supplemental funds to Revolving Loan Fund (RLF) cooperative agreements previously awarded competitively under section 104(k)(3) of the Comprehensive Environmental Response, Compensation and Liability Act (CERCLA). EPA will consider awarding supplemental funding only to RLF Cooperative Agreement Recipients (CARs or recipients) who have demonstrated an ability to deliver programmatic results by making at least one loan or subgrant. The award of these funds is based on the criteria described at CERCLA 104(k)(5)(A)(ii). The Agency is now accepting requests for supplemental funding from RLF CARs. Specific information on submitting a request for RLF supplemental funding is described below and additional information may be obtained by contacting the EPA Regional Brownfields Coordinator.

DATES: Requests for funding must be submitted to the appropriate EPA Regional Brownfields Coordinator (listed below) by April 19, 2021.

ADDRESSES: A request for supplemental funding must be in the form of a letter addressed to the appropriate Regional Brownfields Coordinator (see listing below) with a copy to Nicole Wireman, Wireman.Nicole@epa.gov.

FOR FURTHER INFORMATION CONTACT: Nicole Wireman, U.S. EPA, (202) 566-2649 or the appropriate Brownfields Regional Coordinator.

SUPPLEMENTARY INFORMATION:

I. General Information

A. Does this action apply to me?

You may be affected by this action if you are a current Brownfields RLF CAR.

B. How can I get copies of the other related information and additional updates?

EPA website. To access the FY2021 RLF Supplemental Funding information on EPA's website, please go to https://www.epa.gov/brownfields/solicitations-brownfield-grants. Any revisions to due dates or additional information necessary for submission of FY2021 RLF Supplemental Funding applications will be posted to this website rather than published in the Federal Register. Also, all future notices of the availability of Brownfields RLF Supplemental Funding will be posted on the same website. EPA will discontinue publication of notices of the availability of Brownfields RLF Supplemental Funding in the Federal Register for future fiscal years.

II. Background

The Small Business Liability Relief and Brownfields Revitalization Act added section 104(k) to CERCLA to authorize federal financial assistance for brownfields revitalization, including grants for assessment, cleanup, and job training. Section 104(k) includes a provision for EPA to, among other things, award grants to eligible entities to capitalize Revolving Loan Funds and to provide loans and subgrants for brownfields cleanup. Section 104(k)(5)(A)(ii) authorizes EPA to make additional grant funds available to RLF CARs for any year after the year for which the initial grant is made (noncompetitive RLF supplemental funding) taking into consideration:

(I) The number of sites and number of communities that are addressed by the revolving loan fund;

(II) the demand for funding by eligible entities that have not previously received a grant under this subsection;

(III) the demonstrated ability of the eligible entity to use the revolving loan fund to enhance remediation and provide funds on a continuing basis; and

(IV) such other similar factors as the [Agency] considers appropriate to carry out this subsection.

III. Eligibility

In order to be considered for supplemental funding, CARs must demonstrate that they have significantly depleted funds (both EPA grant funding and any available program income) and that they have a clear plan for utilizing requested additional funds in a timely manner. CARs must demonstrate that they have made at least one loan or subgrant prior to applying for this supplemental funding and have significantly depleted existing available funds. For FY2021, EPA defines “significantly depleted funds” as uncommitted, available funding totaling 25% or less of the total amount of RLF funds awarded under all open and closed grants. In addition, “significant depleted funds” cannot be demonstrated if the RLF balance exceeds $600,000. For new RLF recipients with an award of $1 million or less, funds will be considered significantly depleted if the uncommitted, available funding does not exceed $300,000. Additionally, the RLF recipient must demonstrate a need for supplemental funding based on, among other factors, the list of potential projects in the RLF program pipeline; an ability to make loans and subgrants for cleanups that can be started, completed, and lead to redevelopment; an ability to administer and revolve the RLF by generating program income; an ability to use the RLF grant to address funding gaps for cleanup; and evidence that the RLF has and will continue to provide future community benefit from past and potential future loan(s) and/or subgrant(s). Note that a 20% cost share is required for the entire RLF grant award, which includes the original grant funding plus all supplemental funds. The applicant must specify how it will meet the 20% cost share for the supplemental funds. EPA encourages innovative approaches to maximize revolving grant funds and leveraging with other funds, including use of grant funds as a loan loss guarantee or combining with other government or private sector lending resources. “The Process and Considerations for Supplemental Funding for Brownfields RLF Grants” contains information about the format and required content of RLF supplemental applications and can be found at https://www.epa.gov/brownfields/solicitations-brownfield-grants. Applicants are encouraged to discuss eligibility and other considerations with their EPA Regional Contact listed below prior to applying.

IV. Regional Brownfields Coordinators

• EPA Region 1 (CT, ME, MA, NH, RI, VT): Dorrie Paar, 5 Post Office Square, Boston, MA 02109-3912; telephone number (617) 918-1432; email address: Paar.Dorrie@epa.gov.

• EPA Region 2 (NJ, NY, PR, VI): Alison Devine, 290 Broadway, 18th Floor, New York, NY 10007; telephone number (212) 637-4158: email address: Devine.Alison@epa.gov.

• EPA Region 3 (DE, DC, MD, PA, VA, WV): Brett Gilmartin, 1650 Arch Street, Mail Code 3HS51, Philadelphia, Pennsylvania 19103-2029; telephone number (215) 814-3405; email address: Gilmartin.Brett@epa.gov.

• EPA Region 4 (AL, FL, GA, KY, MS, NC, SC, TN): Derek Street, Atlanta Federal Center, 61 Forsyth Street SW, 10th Fl, Atlanta, GA 30303-8960; telephone number (404) 562-8574; email address: Street.Derek@epa.gov.

• EPA Region 5 (IL, IN, MI, MN, OH, WI): Keary Cragan, 77 West Jackson Boulevard, Mail Code SB-5J, Chicago, Illinois 60604-3507; telephone number (312) 353-5669; email address: Cragan.Keary@epa.gov.

• EPA Region 6 (AR, LA, NM, OK, TX): Camisha Scott, 1445 Ross Avenue, Suite 1200, (6SF-PB), Dallas, Texas 75202-2733; telephone number (214) 665-6755; email address: Scott.Camisha@epa.gov.

• EPA Region 7 (IA, KS, MO, NE): Susan Klein, 11201 Renner Blvd., Lenexa, Kansas 66219; telephone number (913) 551-7786; email address: R7_Brownfields@epa.gov.

• EPA Region 8 (CO, MT, ND, SD, UT, WY): Ted Lanzano, 1595 Wynkoop Street, Denver, CO 80202-1129; telephone number (303) 312-6596; email address: Lanzano.Ted@epa.gov.

• EPA Region 9 (AZ, CA, HI, NV, AS, GU): Noemi Emeric-Ford, 75 Hawthorne Street, WST-8, San Francisco, CA 94105; telephone number (213) 244-1821; email address: Emeric-Ford.Noemi@epa.gov.

• EPA Region 10 (AK, ID, OR, WA): Susan Morales, 1200 Sixth Avenue, Suite 900, Mailstop: ECL-112 Seattle, WA 98101; telephone number (206) 553-7299; email address: Morales.Susan@epa.gov.

David Lloyd,
Director, Office of Brownfields and Land Revitalization, Office of Land and Emergency Management.

[FR Doc. 2021-05677 Filed 3-18-21; 8:45 am]

BILLING CODE 6560-50-P